DEPARTMENT OF COMMERCE

National Oceanic and Atmospheric Administration

RIN 0648-XA123

Marine Mammals; File No. 15616

AGENCY: National Marine Fisheries Service (NMFS), National Oceanic and Atmospheric Administration (NOAA), Commerce.

ACTION: Notice; issuance of permit.

SUMMARY: Notice is hereby given that Craig Matkin, North Gulf Oceanic Society, Homer, AK, has been issued a permit to conduct research on marine mammals.

ADDRESSES: The permit and related documents are available for review upon written request or by appointment in the following offices:

Permits, Conservation and Education Division, Office of Protected Resources, NMFS, 1315 East-West Highway, Room 13705, Silver Spring, MD 20910; phone (301)713-2289; fax (301)713-0376; and Alaska Region, NMFS, P.O. Box 21668, Juneau, AK 99802-1668; phone (907) 586-7221; fax (907) 586-7249.

FOR FURTHER INFORMATION CONTACT: Tammy Adams or Kristy Beard, (301) 713-2289.

SUPPLEMENTARY INFORMATION: On January 5, 2011, notice was published in the Federal Register (76 FR 542) that a request for a permit to conduct research on marine mammals had been submitted by the above-named applicant. The requested permit has been issued under the authority of the Marine Mammal Protection Act of 1972, as amended (16 U.S.C. 1361 et seq.), and the regulations governing the taking and importing of marine mammals (50 CFR part 216).

The permit allows harassment of marine mammals during conduct of research in Alaskan waters, including southeast Alaska, Prince William Sound, the Kenai Peninsula, the Eastern Aleutian Islands, and the Bering Sea. The purpose of the research is to maintain a long-term killer whale (Orcinus orca) monitoring program in Alaskan waters that was initiated over 25 years ago. In addition, the permit holder will examine movements of other non-endangered cetacean species along the North Gulf Coast of Alaska in relation to U.S. Navy testing activities. The research activities include photo-identification, passive acoustic recording, biopsy sampling, tagging with barbed darts and suction cups, and collecting samples of marine mammal carcasses from sites of killer whale predation.

In compliance with the National Environmental Policy Act of 1969 (42 U.S.C. 4321 et seq.), a final determination has been made that the activity proposed is categorically excluded from the requirement to prepare an environmental assessment or environmental impact statement.

Dated: March 9, 2011.
Tammy C. Adams,
Acting Chief, Permits, Conservation and Education Division, Office of Protected Resources, National Marine Fisheries Service.

[FR Doc. 2011-5849 Filed 3-11-11; 8:45 am]

BILLING CODE 3510-22-P